DEPARTMENT OF THE INTERIOR

Fish and Wildlife Service

[FWS-R8-ES-2017-N132; FXES11130000-189-FF08E00000]

Endangered and Threatened Wildlife and Plants; Draft Recovery Plan for the Southern California Distinct Population Segment of the Mountain Yellow-legged Frog (Rana muscosa)

AGENCY: Fish and Wildlife Service, Interior.

ACTION: Notice of document availability.

SUMMARY: We, the U.S. Fish and Wildlife Service, announce the availability of the Draft Recovery Plan for the Southern California Distinct Population Segment of the Mountain Yellow-legged Frog (Rana muscosa) for public review and comment. The draft recovery plan includes objective, measurable criteria, and site-specific management actions as may be necessary to reclassify the species from endangered to threatened and also for removal from the Federal List of Endangered and Threatened Wildlife.

DATES: We must receive any comments on the draft recovery plan on or before September 17, 2018.

ADDRESSES: Document availability: You may obtain a copy of the recovery plan from our website at http://www.fws.gov/endangered/species/recovery-plans.html. Alternatively, you may contact the Carlsbad Fish and Wildlife Office, U.S. Fish and Wildlife Service, 2177 Salk Avenue, Suite 250, Carlsbad, California 92008 (telephone 760-431-9440).

Comment submission: If you wish to comment on the draft recovery plan, you may submit your comments in writing by any one of the following methods:

• U.S. mail: Field Supervisor, at the above address;

• Hand-delivery: Carlsbad Fish and Wildlife Office, at the above address; or

• Email: fw8cfwocomments@fws.gov. For additional information about submitting comments, see the “Public Comments Solicited” section below.

FOR FURTHER INFORMATION CONTACT: Mendel Stewart, Field Supervisor, at the above street address or telephone number (see ADDRESSES).

SUPPLEMENTARY INFORMATION:

Background

Recovery of endangered or threatened animals and plants to the point where they are again secure, self-sustaining members of their ecosystems is a primary goal of our endangered species program and the Endangered Species Act of 1973, as amended (Act; 16 U.S.C. 1531 et seq.). Recovery means improvement of the status of listed species to the point at which listing is no longer necessary under the criteria specified in section 4(a)(1) of the Act. The Act requires the development of recovery plans for listed species, unless such a plan would not promote the conservation of a particular species.

Pursuant to section 4(f) of the Act, a recovery plan must, to the maximum extent practicable, include (1) A description of site-specific management actions as may be necessary to achieve the plan's goals for the conservation and survival of the species; (2) objective, measurable criteria which, when met, would support a determination under section 4(a)(1) that the species should be removed from the List of Endangered and Threatened Species; and (3) estimates of the time and costs required to carry out those measures needed to achieve the plan's goal and to achieve intermediate steps toward that goal.

The Service has revised its approach to recovery planning; the revised process is called Recovery Planning and Implementation (RPI). The RPI process is intended to reduce the time needed to develop and implement recovery plans, increase recovery plan relevancy over a longer timeframe, and add flexibility to recovery plans so they can be adjusted to new information or circumstances. Under RPI, a recovery plan will include statutorily required elements (objective, measurable criteria, site-specific management actions, and estimates of time and costs), along with a concise introduction and our strategy for how we plan to achieve species recovery. The RPI recovery plan is supported by a separate Species Status Assessment, or in cases such as this one, a species biological report that provides the background information and threat assessment, which are key to recovery plan development. The essential component to flexible implementation under RPI is producing a separate working document called the Recovery Implementation Strategy (implementation strategy). The implementation strategy steps down from the more general description of actions described in the recovery plan to detail the specific, near-term activities needed to implement the recovery plan. The implementation strategy will be adaptable by being able to incorporate new information without having to concurrently revise the recovery plan, unless changes to statutory elements are required.

The Service listed the southern California distinct population segment of mountain yellow-legged frog (Rana muscosa) (hereafter “southern R. muscosa”) as endangered in 2002 (67 FR 44382, July 2, 2002), and critical habitat was designated for the species in 2006 (71 FR 54344, September 14, 2006). Historically, southern R. muscosa was widely distributed in at least 166 known populations in watersheds across four mountain ranges in southern California. Currently, the species is restricted to 10 small, isolated populations in the headwaters of streams or tributaries within the San Gabriel, San Bernardino, and San Jacinto Mountains. Primary habitat for the southern R. muscosa includes streams with permanent (perennial) water that have steep gradients with numerous pools, rapids, and small waterfalls. The smallest creeks are likely not inhabited by southern R. muscosa because they lack adequate depth to provide refuge or overwintering habitat.

Southern Rana muscosa is impacted by a number of threats, including: Recreational activities (hiking, mountain climbing, camping, swimming, stocking of trout resulting in predation, and suction dredge mining for gold), dumping of trash and release of toxic or hazardous materials into occupied stream reaches, wildfire, predatory nonnative species (trout), the potential for disease, threats associated with small population size (genetic, demographic, and environmental stochasticity, and natural catastrophes), illegal marijuana cultivation, fire management activities, nonnative plants, climate change, and contaminants.

Recovery Strategy

The purpose of a recovery plan is to provide a framework for the recovery of a species so that protection under the Act is no longer necessary. A recovery plan includes scientific information about the species and provides criteria that enable us to gauge whether downlisting or delisting the species is warranted. Furthermore, recovery plans help guide our recovery efforts by describing actions we consider necessary for each species' conservation and by estimating time and costs for implementing needed recovery measures.

The goal of this recovery plan is to control or ameliorate impacts from current threats to the southern Rana muscosa such that the taxon no longer requires protections afforded by the Act and, therefore, warrants delisting. Continued outreach with our partners is needed to ensure long-term protections are afforded to the southern R. muscosa and its habitat. The site-specific management actions identified in the draft recovery plan are as follows:

(1) Conduct research to inform management actions throughout the range of the species;

(2) Create and implement a protocol for rangewide surveys and monitoring;

(3) Ameliorate Factor A threats associated with present or threatened destruction, modification, or curtailment of the habitat or range throughout each of the three Recovery Units;

(4) Ameliorate Factor C threats associated with predation and disease in each of the three Recovery Units;

(5) Ameliorate Factor E threats associated with other natural or manmade factors affecting the continued existence of southern Rana muscosa in each of the three Recovery Units;

(6) Use reestablishment and population augmentation to increase abundance and expand distribution in the wild.

Public Comments Solicited

We solicit written comments on the draft recovery plan described in this notice. All comments received by the date specified in DATES will be considered in development of a final recovery plan for southern Rana muscosa. You may submit written comments and information by mail, email, or in person to the Carlsbad Fish and Wildlife Office at the above address (see ADDRESSES).

Public Availability of Comments

Before including your address, phone number, email address, or other personal identifying information in your comment, you should be aware that your entire comment—including your personal identifying information—may be made publicly available at any time. While you can ask us in your comment to withhold your personal identifying information from public review, we cannot guarantee that we will be able to do so.

Authority

We developed this recovery plan and publish this notice under the authority of section 4(f) of the Act, 16 U.S.C. 1533(f).

Angela Picco,
Acting Regional Director, Pacific Southwest Region.

[FR Doc. 2018-15362 Filed 7-18-18; 8:45 am]

BILLING CODE 4333-15-P